DEPARTMENT OF COMMERCE

National Oceanic and Atmospheric Administration

RIN 0648-XF516

Pacific Island Fisheries; Marine Conservation Plan for Guam; Western Pacific Sustainable Fisheries Fund

AGENCY: National Marine Fisheries Service (NMFS), National Oceanic and Atmospheric Administration (NOAA), Commerce.

ACTION: Notice of agency decision.

SUMMARY: NMFS announces approval of a Marine Conservation Plan (MCP) for Guam.

DATES: This agency decision is valid from August 4, 2017, through August 3, 2020.

ADDRESSES: You may obtain a copy of the MCP, identified by NOAA-NMFS-2017-0075, from the Federal e-Rulemaking Portal, http://www.regulations.gov/#!docketDetail;D=NOAA-NMFS-2017-0075, or from the Western Pacific Fishery Management Council (Council), 1164 Bishop St., Suite 1400, Honolulu, HI 96813, tel 808-522-8220, www.wpcouncil.org.

FOR FURTHER INFORMATION CONTACT: Melanie Brown, Sustainable Fisheries, NMFS Pacific Islands Regional Office, 808-725-5171.

SUPPLEMENTARY INFORMATION: Section 204(e) of the Magnuson-Stevens Fishery Conservation and Management Act (Magnuson-Stevens Act) authorizes the Secretary of State, with the concurrence of the Secretary of Commerce (Secretary), and in consultation with the Council, to negotiate and enter into a Pacific Insular Area fishery agreement (PIAFA). A PIAFA would allow foreign fishing within the U.S. Exclusive Economic Zone (EEZ) adjacent to American Samoa, Guam, or the Northern Mariana Islands. The Governor of the Pacific Insular Area to which the PIAFA applies must request the PIAFA. The Secretary of State may negotiate and enter the PIAFA after consultation with, and concurrence of, the applicable Governor.

Before entering into a PIAFA, the applicable Governor, with concurrence of the Council, must develop and submit to the Secretary a 3-year MCP providing details on uses for any funds collected by the Secretary under the PIAFA. NMFS is the designee of the Secretary for MCP review and approval. The Magnuson-Stevens Act requires payments received under a PIAFA to be deposited into the United States Treasury and then conveyed to the Treasury of the Pacific Insular Area for which funds were collected.

In the case of violations by foreign fishing vessels in the EEZ around any Pacific Insular Area, amounts received by the Secretary attributable to fines and penalties imposed under the Magnuson-Stevens Act, including sums collected from the forfeiture and disposition or sale of property seized subject to its authority, shall be deposited into the Treasury of the Pacific Insular Area adjacent to the EEZ in which the violation occurred, after direct costs of the enforcement action are subtracted. The Pacific Insular Area government may use funds deposited into the Treasury of the Pacific Insular Area for fisheries enforcement and for implementation of an MCP.

Federal regulations at 50 CFR 665.819 authorize NMFS to specify catch limits for of longline-caught bigeye tuna for U.S. territories. NMFS may also authorize each territory to allocate a portion of that limit to U.S. longline fishing vessels that are permitted to fish under the Fishery Ecosystem Plan for Pelagic Fisheries of the Western Pacific (FEP). Payments collected under specified fishing agreements are deposited into the Western Pacific Sustainable Fisheries Fund, and any funds attributable to a particular territory may be used only for implementation of that territory's MCP.

An MCP must be consistent with the Council's fishery ecosystem plans, must identify conservation and management objectives (including criteria for determining when such objectives have been met), and must prioritize planned marine conservation projects.

The Council reviewed and concurred with the Guam MCP in June 2017. On July 14, 2017, the Governor of Guam submitted the Guam MCP to NMFS for review and approval. The following describes the objectives of the MCP. Please refer to the MCP for planned projects and activities designed to meet each objective, the evaluative criteria, and priority rankings. The MCP contains six conservation and management objectives, listed below.

1. Fisheries resource assessment, research and monitoring;

2. Effective surveillance and enforcement mechanisms;

3. Promote ecosystems approach to fisheries management, climate change adaptation and mitigation, and regional cooperation;

4. Public participation, education and outreach, and local capacity building;

5. Domestic fisheries development; and

6. Recognizing the importance of island cultures and traditional fishing practices and community-based management.

This notice announces that NMFS has reviewed the MCP, and has determined that it satisfies the requirements of the Magnuson-Stevens Act. Accordingly, NMFS has approved the MCP for the 3-year period from August 4, 2017, through August 3, 2020. This MCP supersedes the MCP previously approved for the period August 4, 2014, through August 3, 2017 (79 FR 47095, August 12, 2014).

Dated: August 11, 2017.
Emily H. Menashes,
Acting Director, Office of Sustainable Fisheries, National Marine Fisheries Service.

[FR Doc. 2017-17347 Filed 8-15-17; 8:45 am]

BILLING CODE 3510-22-P